DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel. 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Action(s)

On June 11, 2018, OFAC determined that the property and interests in property subject to U.S. jurisdiction of the following persons are blocked under the relevant sanctions authority listed below.

Individuals

1. FITWI, Abd al-Razzak (a.k.a. ABDELRAZAK, Ismail; a.k.a. ESMAIL, Abdurazak; a.k.a. FITIWI, Abdurazak), Tripoli, Libya; Sabratha, Libya; Benghazi, Libya; DOB 1985 to 1987; POB Massawa, Eritrea; nationality Sudan; Gender Male (individual) [LIBYA3].

Designated pursuant to Section 1(a)(v) of Executive Order 13726 of April 19, 2016, “Blocking Property and Suspending Entry Into the United States of Persons Contributing to the Situation in Libya” (E.O. 13726) for being a leader of an entity that has, or whose members have, engaged in actions or policies that threaten the peace, security, or stability of Libya.

2. ABU GREIN, Musab (a.k.a. ABU-QURAYN, Mus'ab), Sabratha, Libya; DOB 1982 to 1983; nationality Libya; Gender Male (individual) [LIBYA3].

Designated pursuant to Section 1(a)(v) of E.O. 13726 for being a leader of an entity that has, or whose members have, engaged in actions or policies that threaten the peace, security, or stability of Libya.

3. GHERMAY, Ermias, Sabratha, Libya; Khartoum, Sudan; Tripoli, Libya; DOB 1972 to 1977; POB Addis Ababa, Ethiopia; nationality Ethiopia; citizen Eritrea; Gender Male (individual) [LIBYA3].

Designated pursuant to Section 1(a)(v) of E.O. 13726 for being a leader of an entity that has, or whose members have, engaged in actions or policies that threaten the peace, security, or stability of Libya.

4. DABBASHI, Ahmed (a.k.a. AL DABBASHI, Ahmad Mohammed Omar Al Fituri; a.k.a. “Amu”), Sabratha, Libya; DOB 05 Jul 1988; nationality Libya; Gender Male (individual) [LIBYA3].

Designated pursuant to Section 1(a)(v) of E.O. 13726 for being a leader of an entity that has, or whose members have, engaged in actions or policies that threaten the peace, security, or stability of Libya.

5. KOSHLAF, Mohamed (a.k.a. KASHLAF, Mohamed; a.k.a. KHUSHLAF, Mohamed; a.k.a. KOSHLAF, Mohamed al-Aameen al-Arabi; a.k.a. “Al Qasseb”), Zawiya, Libya; DOB 12 Dec 1985; POB Zawiya, Libya; nationality Libya; Gender Male (individual) [LIBYA3].

Designated pursuant to Section 1(a)(v) of E.O. 13726 for being a leader of an entity that has, or whose members have, engaged in actions or policies that threaten the peace, security, or stability of Libya.

6. MILAD, Abd al-Rahman (a.k.a. MILAD, Abdurahman Al; a.k.a. “al-Bija”), Zawiya, Libya; DOB 27 Jul 1986; nationality Libya; Gender Male (individual) [LIBYA3].

Designated pursuant to Section 1(a)(v) of E.O. 13726 for being a leader of an entity that has, or whose members have, engaged in actions or policies that threaten the peace, security, or stability of Libya.

Dated: June 11, 2018.
Andrea Gacki,
Acting Director, Office of Foreign Assets Control.

[FR Doc. 2018-13550 Filed 6-22-18; 8:45 am]

BILLING CODE 4810-AL-P